ENVIRONMENTAL PROTECTION AGENCY

[ER-FRL-8585-3]

Environmental Impacts Statements; Notice of Availability

Responsible Agency: Office of Federal Activities, General Information (202) 564-1399 or http://www.epa.gov/compliance/nepa/.

Weekly receipt of Environmental Impact Statements.

Filed 08/25/2008 through 08/29/2008.

Pursuant to 40 CFR 1506.9.

EIS No. 20080336, Draft EIS, AFS, OR, Farley Vegetation Management Project, To Conduct Timber Harvest Commercial and Non-Commercial Thinning, Fuels Treatment Prescribed Burning and Reforestation, Desolation Creek, North Fork John Day Ranger District, Umatilla National Forest, Grant County, OR, Comment Period Ends: 10/20/2008, Contact: Craig Smith-Dixon 541-278-3716.

EIS No. 20080337, Final EIS, BLM, 00, Programmatic EIS—Oil Shale and Tar Sands Resource Management (RMP) Amendments to Address Land Use Allocations in Colorado, Utah and Wyoming, Wait Period Ends: 10/06/2008, Contact: Mitchell Leverette 202-452-5088.

EIS No. 20080338, Final EIS, FHW, UT, UT-108 Transportation Improvement Project, To Improve Local and Regional Mobility from UT-108 between UT-127 (Antelope Drive) to UT-126 (1900 West) Located in Syracuse, West Point and Clinton in Dave County, and Roy and West Haven in Weber County, UT, Wait Period Ends: 10/06/2008, Contact: Douglas S. Atkin, PE. 801-963-0182.

EIS No. 20080339, Final EIS, BLM, UT, Monticello Field Office Resource Management Plan, To Guide the Management of Public Land, Southern two-thirds of San Juan County and small portion on the Northern boundary within Grand County,UT, Wait Period Ends: 10/06/2008, Contact: Pam Schuller 801-539-4050.

EIS No. 20080340, Draft EIS, FHW, UT, SR-262; Montezuma Creek to Aneth Project, Improvements to the Intersection of SR-162, SR-262, and County Road (CR) 450 in Montezuma Cree, Funding, Navajo Nation, San Juan County, UT, Comment Period Ends: 10/20/2008, Contact: Brenda Redwing 801-963-0182.

EIS No. 20080341, Final EIS, AFS, ID, Idaho Roadless Area Conservation Project, To Provide State-Specific Direction for the Conservation and Management of Inventoried Roadless Areas, National Forest System Lands in Idaho, Wait Period Ends: 10/06/2008, Contact: Ken Karkula 202-205-2869.

EIS No. 20080342, Final EIS, AFS, WY, Inyan Kara Analysis Area Vegetation Management, Proposes to Implement Best Management Livestock Grazing Practices and Activities Associated with Adaptive Management and Monitoring Strategies, Douglas Ranger District, Medicine Bow Routt National Forest and Thunder Basin National Grassland, Niobrara and Weston Counties, WY, Wait Period Ends: 10/06/2008, Contact: Ernie Gipson 307-358-4960.

EIS No. 20080343, Draft EIS, FRC, OR, Jordan Cove Energy and Pacific Connector Gas Pipeline Project, Construction and Operation, Liquefied Natural Gas (LNG) Import Terminal and Natural Gas Pipeline Facilities, Coos, Douglas, Jackson and Klamath Counties, OR, Comment Period Ends:12/04/2008, Contact: Patricia Schaub 1-866-208-3372.

Dated: September 2, 2008.
Ken Mittelholtz,
Environmental Protection Specialist, Office of Federal Activities.

[FR Doc. E8-20602 Filed 9-4-08; 8:45 am]

BILLING CODE 6560-50-P